INTERNATIONAL TRADE COMMISSION

[Investigation Nos. 731-TA-1140-1142 (Third Review)]

Uncovered Innerspring Units From China, South Africa, and Vietnam Determinations

On the basis of the record ¹ developed in the subject five-year reviews, the United States International Trade Commission (“Commission”) determines, pursuant to the Tariff Act of 1930 (“the Act”), that revocation of the antidumping duty orders on uncovered innerspring units from China, South Africa, and Vietnam would be likely to lead to continuation or recurrence of material injury to an industry in the United States within a reasonably foreseeable time.

¹ The record is defined in § 207.2(f) of the Commission's Rules of Practice and Procedure (19 CFR 207.2(f)).

Background

The Commission instituted these reviews on September 3, 2024 (89 FR 71414) and determined on December 9, 2024, that it would conduct expedited reviews (90 FR 8940, February 4, 2025).²

² Commissioner David S. Johanson voted to conduct full reviews.

The Commission made these determinations pursuant to section 751(c) of the Act (19 U.S.C. 1675(c)). It completed and filed its determinations in these reviews on March 28, 2025. The views of the Commission are contained in USITC Publication 5604 (March 2025), entitled Uncovered Innerspring Units from China, South Africa, and Vietnam: Investigation Nos. 731-TA-1140-1142 (Third Review).

By order of the Commission.
Issued: March 28, 2025.
Lisa Barton,
Secretary to the Commission.

[FR Doc. 2025-05697 Filed 4-2-25; 8:45 am]

BILLING CODE 7020-02-P